DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Room 4211, U.S. Department of Commerce, 14th Street and Constitution Avenue, NW., Washington, DC.

Docket Number: 01-010. Applicant: University of Colorado, Department of MCD Biology, 347 UCB, Boulder, CO 80309-0347.

Instrument: Electron Microscope, Model Tecnai F20.

Manufacturer: FEI Company, The Netherlands. Intended Use: The instrument is intended to be used for the study of the structure of biological materials in three dimensions. Sometimes these will be components of cells such as organelles or filaments; sometimes large molecules within cells. In addition, the structure of molecules will be studied at very high resolution by extracting and preparing them so that many copies of the molecule can be imaged at once and these images averaged. The goal of these investigations is to achieve a detailed understanding of the 3-dimensional structure of some cellular component, which in turn can be used to increase the understanding of the component. Application accepted by Commissioner of Customs: April 13, 2001.

Gerald A. Zerdy,
Program Manager, Statutory Import Programs Staff.

[FR Doc. 01-10858 Filed 4-30-01; 8:45 am]

BILLING CODE 3510-DS-P